DEPARTMENT OF THE INTERIOR

Office of the Secretary

Notice of Availability of the Draft Environmental Impact Statement/Environmental Impact Report and Notice of Public Hearings for Klamath Facilities Removal

AGENCY: Office of Environmental Policy and Compliance, Interior.

ACTION: Notice of availability and notice of public hearings.

SUMMARY: The Department of the Interior and the California Department of Fish and Game have prepared a draft environmental impact statement and environmental impact report (EIS/EIR) evaluating the effects of removing four dams on the Klamath River in southern Oregon and northern California. These documents are one part of the total record that will inform the decision of the Secretary of the Interior on whether removing the dams will advance restoration of the fisheries of the Klamath River Basin and will be in the public interest.

DATES: Submit written comments on or before November 21, 2011. We will hold six public hearings to solicit comments on the potential effects of the proposed action. See SUPPLEMENTARY INFORMATION section for hearing dates.

ADDRESSES: Please send written comments to Ms. Elizabeth Vasquez, Bureau of Reclamation, 2800 Cottage Way, Sacramento, CA 95825, or by e-mail to KlamathSD@usbr.gov. Written comments also may be submitted during the public meetings. Please see the SUPPLEMENTARY INFORMATION section for meeting addresses.

FOR FURTHER INFORMATION CONTACT: Ms. Elizabeth Vasquez, Bureau of Reclamation, 916-978-5040, evasquez@usbr.gov; or Mr. Gordon Leppig, California Department of Fish and Game, 707-441-2062, KSDcomments@dfg.ca.gov, for technical information. For public involvement information, please contact Mr. Matt Baun, U.S. Fish and Wildlife Service, 530-841-3119, Matt_Baun@fws.gov. The Draft EIS/EIR may be viewed at http://klamathrestoration.gov/.

SUPPLEMENTARY INFORMATION: The Department of the Interior (Department) and the California Department of Fish and Game have prepared an EIS/EIR for Klamath Facilities Removal. The draft EIS/EIR evaluates potential effects of the proposed removal of four PacifiCorp dams on the Klamath River in southern Oregon and northern California (the J.C. Boyle, Copco 1, Copco 2, and Iron Gate Dams). The proposed removal would be in accordance with the Klamath Hydroelectric Settlement Agreement (KHSA).

The KHSA established a process for studies and environmental review leading to a Secretarial decision on whether removal of the dams will:

(1) Advance restoration of salmonid (salmon, steelhead, and trout) fisheries of the Klamath River Basin; and

(2) Be in the public interest, including, but not limited to, consideration of potential impacts on affected local communities and Tribes.

This determination will be made based on in-depth studies and the EIS/EIR. The Klamath Basin Restoration Agreement (KBRA) provides for restoration of native fisheries and sustainable water supplies throughout the Klamath River Basin, and under NEPA is connected to dam removal and the KHSA. Together, these two agreements attempt to resolve long-standing conflicts in the Klamath River Basin.

The EIS/EIR:

• Will inform the Secretary's decision whether to approve removal of the four PacifiCorp dams as well as the connected actions contemplated within the KHSA and KBRA.

• Will include analysis and disclosures of the effects on the human and physical environment that may occur as a result of implementation of the proposed action.

• Will address, among other issues, effects on biological resources, historic and archaeological resources, geomorphology, flood hydrology, water quality, air quality, public safety, hazardous materials and waste, visual resources, socioeconomics, real estate, tribal trust, recreation, and environmental justice.

• Will comply with the California Environmental Quality Act (CEQA).

Background

Conflicts over water and other natural resources in the Klamath Basin between conservationists, Tribes, farmers, fishermen, and State and Federal agencies have existed for decades. In particular, several events affecting the Klamath Basin have occurred in recent years:

• In 2001, water deliveries to irrigation contractors in Reclamation's Klamath Project were substantially reduced.

• In 2002, returning adult salmon suffered a major die-off.

• In 2006, the commercial salmon fishing season was closed along 700 miles of the West Coast to protect weak Klamath River stocks and other major river salmon stocks.

• In 2010, due to drought conditions, Reclamation's Klamath Project had a reduction in water deliveries resulting in short-term idling of farmland and increased groundwater pumping.

The United States; the States of California and Oregon; the Klamath, Karuk, and Yurok Tribes; Klamath Project Water Users; and other Klamath River Basin stakeholders negotiated the KHSA and the KBRA to resolve long-standing disputes regarding a broad range of natural resource issues. The Agreements are intended to result in effective and durable solutions that:

• Restore and sustain natural fish production and provide for full participation in ocean and river harvest of fish species throughout the Klamath Basin;

• Establish reliable water and power supplies which sustain agricultural uses, communities, and National Wildlife Refuges; and

• Contribute to the public welfare and the sustainability of all Klamath Basin communities.

Statement of Purpose and Need and Proposed Action

The Purpose and Need statement has changed since publication of the Notice of Intent to prepare an EIS/EIR in the Federal Register on June 14, 2010 (75 FR 33634) in order to provide further clarification regarding the need for action. These changes are not substantive and do not warrant consideration of additional alternatives.

The proposed action is to remove the four lower PacifiCorp dams on the Klamath River. The need for the proposed action is to advance restoration of the salmonid fisheries in the Klamath Basin consistent with the KHSA and the connected KBRA. The purpose is to achieve a free-flowing river condition and full volitional fish passage as well as other goals expressed in the KHSA and KBRA. By the terms of the KHSA, the Secretary will determine whether the proposed action is appropriate and should proceed. In making this determination, the Secretary will consider whether removal of the four facilities will advance the restoration of the salmonid fisheries of the Klamath Basin, and is in the public interest, which includes, but is not limited to, consideration of potential impacts on affected local communities and Tribes.

After public scoping and an initial alternative screening, five project alternatives were selected for further analysis in this EIS/EIR:

• Alternative 1: No Action/No Project Alternative;

• Alternative 2: The Proposed Action;

• Alternative 3: Partial Facilities Removal;

• Alternative 4: Fish Passage at Four Dams; and

• Alternative 5: Remove Copco 1 and Iron Gate Dams, Construct Fish Passage at J.C. Boyle and Copco 2 Dams.

Full implementation of the agreements is dependent on an affirmative Secretarial Determination. The KBRA itself is not being approved at this time. But KBRA actions and components that would require discretionary approval by Federal or State agencies may be subject to subsequent National Environmental Policy Act and/or California Environmental Quality Act analysis. Other connected actions analyzed in the EIS/EIR are the transfer of title of Keno Dam from PacifiCorp to the Bureau of Reclamation as well as the re-construction of the City of Yreka water supply pipeline.

Copies of the draft EIS/EIR are available for public inspection at libraries and government offices, including the following locations:

• Main Siskiyou County Library, 719 Fourth Street, Yreka, CA 96097.

• Main Klamath County Library, 126 South Third Street, Klamath Falls, OR 97601.

• Arcata Library, 500 Seventh Street, Arcata, CA 95521.

• Main Humboldt County Library, 1313 Third Street, Eureka, CA 95501.

• Hoopa Library, Loop Rd. & Orchard Street, Hoopa, CA 95546.

• Willow Creek Library Branch, Junction of Highways 299 & 96, Willow Creek, CA 95573.

• Main Del Norte County Library, 190 Price Mall, Crescent City, CA 95531.

• Medford Library Branch, 205 South Central Avenue, Medford, OR 97501.

• Ashland Library Branch, 410 Siskiyou Boulevard, Ashland, OR 97520.

• Chetco Community Public Library, 405 Alder Street, Brookings, OR 97415.

• Bureau of Reclamation, 2800 Cottage Way, MP-152, Sacramento, CA 95825.

• California Department of Fish and Game, 619 Second Street, Eureka, CA 95501.

• Natural Resources Library, U.S. Department of the Interior, 1849 C Street, NW., Main Interior Building, Washington, DC 20240-0001.

For a full list of locations where the Draft EIS/EIR is available for public inspection, or to obtain an electronic copy of the Draft EIS/EIR, please visit http://klamathrestoration.gov/.

Public Hearings

The Department and the California Department of Fish and Game will hold six public hearings according to the dates and locations listed below. Oral and written comments will be accepted at the public hearings.

• Tuesday, October 18, 2011, 4:30 p.m. to 8 p.m., County Fair Grounds, 3531 South Sixth Street, Klamath Falls, OR 97603.

• Wednesday, October 19, 2011, 4:30 p.m. to 8 p.m., Chiloquin Community Center, 140 South First Street, Chiloquin, OR 97624.

• Thursday, October 20, 2011, 4:30 p.m. to 8 p.m., Yreka Community Theater, 810 North Oregon Street, Yreka, CA 96097.

• Tuesday, October 25, 2011, 4:30 p.m. to 8 p.m., Karuk Community Room, 39051 Highway 96, Orleans, CA 95556.

• Wednesday, October 26, 2011, 4:30 p.m. to 8 p.m., Arcata Community Center, 321 Community Park Way, Arcata, CA 95521.

• Thursday, October 27, 2011, 4:30 p.m. to 8 p.m., Yurok Tribal Administration Office, 190 Klamath Boulevard, Klamath, CA 95548.

Public Disclosure

Before including your name, address, phone number, e-mail address, or other personal identifying information in your comment, please be aware that your entire comment—including your personal identifying information—may be made publicly available at any time. While you can ask us in your comment to withhold your personal identifying information from public review, we cannot guarantee that we will be able to do so.

Willie R. Taylor,
Director, Office of Environmental Policy and Compliance.

[FR Doc. 2011-24360 Filed 9-21-11; 8:45 am]

BILLING CODE 4310-MN-P